ENVIRONMENTAL PROTECTION AGENCY

[FRL-9152-3]

Science Advisory Board Staff Office; Notification of a Public Teleconference of the Chartered Science Advisory Board

AGENCY: Environmental Protection Agency (EPA).

ACTION: Notice.

SUMMARY: The EPA Science Advisory Board (SAB) Staff Office announces a public teleconference of the chartered SAB on June 16, 2010 to conduct quality reviews of two draft SAB reports. In addition, the SAB will discuss its draft report on EPA's strategic research directions.

DATES: The public teleconference will be held on June 16, 2010 from 11 a.m. to 2 p.m. (Eastern Daylight Time).

ADDRESSES: The public teleconference will be conducted by telephone only.

FOR FURTHER INFORMATION CONTACT: Any member of the public wishing to obtain general information concerning this public teleconference should contact Dr. Angela Nugent, Designated Federal Officer (DFO), EPA Science Advisory Board (1400F), 1200 Pennsylvania Avenue, NW., Washington, DC 20460; via telephone/voice mail (202) 343-9981; fax (202) 233-0643; or e-mail at nugent.angela@ epa.gov. General information concerning the EPA Science Advisory Board can be found on the SAB Web site at http://www.epa.gov/sab.

SUPPLEMENTARY INFORMATION: Pursuant to the Federal Advisory Committee Act (FACA), 5 U.S.C., App. 2, notice is hereby given that the EPA Science Advisory Board will hold a public teleconference to review three draft SAB reports: (1) The SAB Environmental Engineering Committee Hydraulic Fracturing Research Plan Review; (2) the report from the SAB Work Group to Lead the Review of the Arsenic Cancer Assessment; and (3) the chartered SAB's draft report on Strategic Research Directions and Integrated Transdisciplinary Research. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background: (1) Advisory on EPA's Proposed Hydraulic Fracturing Research Plan Review. In its Fiscal Year 2010 Appropriation Conference Committee Directive to EPA, the U.S. House of Representatives approved a provision that urges EPA to assess the potential risks to drinking water posed by hydraulic fracturing of formations including coalbeds and shale for extraction of natural gas. Hydraulic fracturing generates vertical and horizontal fractures in underground geologic formations to facilitate extraction of gas (or oil) from the subsurface.

To meet the Congressional request, EPA's Office of Research and Development (ORD) developed a draft research plan. This plan described an approach to gather existing data and information including a stakeholder input process; to catalog potential risks to drinking water supplies from hydraulic fracturing; to identify data gaps; and to develop research questions, research needs, and research products. ORD requested SAB advice regarding the planned research. The SAB Environmental Engineering Committee discussed its advice on April 7-8, 2010 (75 FR 9205-9206). Background information about this advisory activity can be found on the SAB Web site at http://yosemite.epa.gov/sab/sabproduct.nsf/fedrgstr_activites/Hydraulic%20Fracturing?OpenDocument.

(2) Review of the Arsenic Cancer Assessment: EPA is currently in the process of updating the 1988 IRIS cancer assessment for inorganic arsenic. The EPA evaluated and implemented the National Research Council recommendations in their report titled Arsenic in Drinking Water: 2001 Update and in 2005 requested the SAB review the Agency's draft cancer assessment for inorganic arsenic. The SAB review report (Advisory on EPA's Assessments of Carcinogenic Effects of Organic and Inorganic Arsenic: A Report of the US EPA Science Advisory Board, EPA-SAB-07-008) was finalized in 2007.

EPA's Office of Research Development has recently completed a 2010 draft titled: “Toxicological Review of Inorganic Arsenic: In Support of the Summary Information on the Integrated Risk Information System (IRIS)”. ORD requested that the SAB evaluate and comment on EPA's interpretation and implementation of the key SAB (2007) recommendations. ORD requested a review focusing in three areas of the draft cancer assessment of inorganic arsenic: Evaluation of epidemiological literature; dose-response modeling approaches; and the sensitivity analysis of the exposure assumptions used in the risk assessment.

A work group of the chartered SAB discussed its review on April 6-7, 2010 (75 FR 9205-9206). Background information about this advisory activity can be found on the SAB Web site at http://yosemite.epa.gov/sab/sabproduct.nsf/fedrgstr_activites/Rev%20Tox%20Review%20Inorg%20Arsenic?OpenDocument.

(3) Chartered SAB's draft report on strategic research directions and integrated transdisciplinary research: Since 2007 EPA's ORD has requested SAB advice on strategic research directions. ORD requested advice on the overall strategic direction of the program in relation to EPA's overall mission and components of EPA's research program. The draft report was developed after SAB discussions with ORD about strategic research directions on November 9-10, 2009 (74 FR 52805-52806) and April 5-6, 2010 (75 FR 11883-11884).

Background information about this advisory activity can be found on the SAB Web site at http://yosemite.epa.gov/sab/sabproduct.nsf/fedrgstr_activites/Research%20Directions?OpenDocument.

Availability of Meeting Materials: The agenda and other materials in support of the teleconference will be placed on the SAB Web site at http://www.epa.gov/sab in advance of the teleconference.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Oral Statements: In general, individuals or groups requesting time to make an oral presentation at a public SAB teleconference will be limited to three minutes, with no more than one-half hour for all speakers. Those interested in being placed on the public speakers list should contact Dr. Nugent at the contact information provided above by June 9, 2010. Written Statements: Written statements should be received in the SAB Staff Office by June 9, 2010. Written statements should be supplied to the DFO via e-mail to nugent.angela@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Angela Nugent at (202) 343-9981 or nugent.angela@epa.gov. To request accommodation of a disability, please contact her preferably at least 10 days prior to the teleconference, to give EPA as much time as possible to process your request.

Dated: May 10, 2010.
Anthony Maciorowski,
Deputy Director, EPA Science Advisory Board Staff Office.

[FR Doc. 2010-11691 Filed 5-14-10; 8:45 am]

BILLING CODE 6560-50-P